DEPARTMENT OF ENERGY

Federal Energy Regulatory Commission

Combined Notice of Filings #1

October 6, 2009.

Take notice that the Commission received the following electric rate filings:

Docket Numbers: ER09-938-002.

Applicants: Central Maine Power Company.

Description: Central Maine Power Company's Compliance Filing.

Filed Date: 10/06/2009.

Accession Number: 20091006-5082.

Comment Date: 5 p.m. Eastern Time on Tuesday, October 27, 2009.

Docket Numbers: ER09-1540-001.

Applicants: Pacific Gas and Electric Company.

Description: Compliance Refund Report Twenty-Sixth Quarterly Filing of Facilities Agreements between PG&E and CCSF.

Filed Date: 10/05/2009.

Accession Number: 20091005-5075.

Comment Date: 5 p.m. Eastern Time on Monday, October 26, 2009.

Docket Numbers: ER09-1715-002.

Applicants: Employers' Energy Alliance of Pennsylvan.

Description: Employers' Energy Alliance of Pennsylvania, Inc submits a Notice of Succession.

Filed Date: 10/05/2009.

Accession Number: 20091005-0088.

Comment Date: 5 p.m. Eastern Time on Monday, October 26, 2009.

Docket Numbers: ER09-1747-001.

Applicants: Fox Islands Electric Cooperative Inc.

Description: Fox Islands Electric Cooperative, Inc submits application for authorization to engage in sales at market based rates and associated requests for waivers etc.

Filed Date: 10/05/2009.

Accession Number: 20091006-0001.

Comment Date: 5 p.m. Eastern Time on Monday, October 26, 2009.

Docket Numbers: ER10-27-000.

Applicants: Midwest Independent Transmission System.

Description: Midwest Independent Transmission System Operator, Inc submits Original Sheet 3816 et al to FERC Electric Tariff, Fourth Revised Volume 1 to be effective 1/1/10.

Filed Date: 10/02/2009.

Accession Number: 20091005-0080.

Comment Date: 5 p.m. Eastern Time on Friday, October 23, 2009.

Docket Numbers: ER10-28-000.

Applicants: California Independent System Operator Corporation.

Description: The California Independent System Operator submits Third Revised Sheet 590 et al to FERC Electric Tariff, Fourth Replacement Volume 1 to be effective 12/2/09.

Filed Date: 10/02/2009.

Accession Number: 20091005-0079.

Comment Date: 5 p.m. Eastern Time on Friday, October 23, 2009.

Docket Numbers: ER10-29-000.

Applicants: Southwest Power Pool, Inc.

Description: Southwest Power Pool, Inc submits revised pages to its Open Access Transmission Tariff or to implement rate changes for Lincoln Electric System and Omaha Public Power District etc.

Filed Date: 10/05/2009.

Accession Number: 20091005-0089.

Comment Date: 5 p.m. Eastern Time on Monday, October 26, 2009.

Docket Numbers: ER10-30-000.

Applicants: PJM Interconnection, L.L.C.

Description: PJM Interconnection, LLC submits nine executed Wholesale Market Participation Agreements with Allegheny Electric Cooperative, Inc et al.

Filed Date: 10/05/2009.

Accession Number: 20091005-0090.

Comment Date: 5 p.m. Eastern Time on Monday, October 26, 2009.

Docket Numbers: ER10-31-000.

Applicants: Black Hills Power, Inc.

Description: Black Hills Power, Inc submits Agreement for Interconnection Service between Black Hills Power and Black Hills Wyoming LLC.

Filed Date: 10/05/2009.

Accession Number: 20091006-0015.

Comment Date: 5 p.m. Eastern Time on Monday, October 26, 2009.

Docket Numbers: ER10-32-000.

Applicants: California Independent System Operator Corporation.

Description: California Independent System Operator Corporation submits petition for limited waiver of tariff provisions and request for expedited Commission Order.

Filed Date: 10/05/2009.

Accession Number: 20091006-0016.

Comment Date: 5 p.m. Eastern Time on Monday, October 26, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-24572 Filed 10-13-09; 8:45 am]

BILLING CODE 6717-01-P